DEPARTMENT OF AGRICULTURE

Forest Service

Trinity County Resource Advisory Committee (RAC); Meeting

AGENCY: USDA Forest Service.

ACTION: Notice of meeting.

SUMMARY: The Trinity County Resource Advisory Committee (RAC) will meet on January 7, 2002 in Weaverville, California. The purpose of the meeting is to discuss the selection of Title II projects under Public Law 106-393, H.R. 2389, the Secure Rural Schools and Community Self-Determination Act of 2000, also called the “Payments to States” Act.

DATES: The meeting will be held on January 7, 2002 from 6:30 to 8:30 p.m.

ADDRESSES: The meeting will be held at the Trinity County Public Utilities District Conference Room, 26 Ponderosa Lane, Weaverville, California.

FOR FURTHER INFORMATION CONTACT: Joyce Andersen, Designated Federal Official, USDA, Shasta-Trinity National Forest, P.O. Box 1190, Weaverville, CA 96093. Phone: (530) 623-2121. E-mail: jandersen@fs.fed.us.

SUPPLEMENTARY INFORMATION: This will be the third meeting of the committee and will focus on developing an overall strategy for selecting Title II projects. The meeting is open to the public. Public input opportunity will be provided and individuals will have the opportunity to address the committee at that time.

Dated: December 4, 2001.
J. Sharon Heywood,
Forest Supervisor.

[FR Doc. 01-30642 Filed 12-11-01; 8:45 am]

BILLING CODE 3410-11-M